DEPARTMENT OF COMMERCE

National Institute of Standards and Technology

National Voluntary Laboratory Accreditation Program Workshop for Laboratories Interested in the Help America Vote Act

AGENCY: National Institute of Standards and Technology, Commerce.

ACTION: Workshop notice.

SUMMARY: The National Voluntary Laboratory Accreditation Program (NVLAP) will hold a public workshop on August 17, 2004, at the National Institute of Standards and Technology (NIST) in Gaithersburg, MD. The purpose of the workshop is the exchange of information among NVLAP, laboratories interested in seeking accreditation for the testing of voting systems under the Help America Vote Act, and other interested parties. The results of the workshop discussions will be used in the development of the NVLAP Voting Systems Laboratory Accreditation Program (Voting LAP).

There is no charge for the workshop but pre-registration is required. A registration form can be found at http://vote.nist.gov.

ADDRESSES: National Voluntary Laboratory Accreditation Program, 100 Bureau Drive/MS 2140, Gaithersburg, MD 20899-2140.

FOR FURTHER INFORMATION CONTACT: Jeffrey Horlick, Program Manager, NVLAP, 100 Bureau Drive/MS 2140, Gaithersburg, MD 20899-2140, phone: (301) 975-4016 or e-mail nvlap.voting@nist.gov. Information regarding NVLAP and the accreditation process can also be viewed at http://www.nist.gov/nvlap.

SUPPLEMENTARY INFORMATION:

Background

The Help America Vote Act (HAVA) of 2002 (Pub. L. 107-252) was signed into law by President Bush on October 29, 2002. Section 231 of the HAVA requires the Director of NIST to provide for the accreditation of laboratories that conduct testing on the hardware and software of voting systems. In response to the HAVA, the National Voluntary Laboratory Accreditation Program (NVLAP) is establishing a program for laboratories that test voting systems.

NVLAP accreditation criteria is established in accordance with the Code of Federal Regulations (CFR, Title 15, Part 285), NVLAP Procedures and General Requirements. Laboratories conducting this testing will be required to meet ISO/IEC International Standard 17025, General requirements for the competence of testing and calibration laboratories, the 2002 Voting System Standards, and any other criteria deemed necessary by the U.S. Election Assistance Commission (EAC). For each new laboratory accreditation program (LAP), NVLAP works with the affected testing community to develop program-specific technical requirements. These requirements tailor the general accreditation criteria referenced in Sections 4 and 5 of NIST Handbook 150 to the tests and services in the new LAP. Program-specific requirements include the details of the Scope of Accreditation, test and measurement equipment, personnel requirements, validation of test methods, and reporting of test results.

PRA Clearance

This action contains a collection of information requirements subject to review and approval by the Office of Management and Budget (OMB) under the Paperwork Reduction Act (PRA) of 1995. Collection activities for the National Voluntary Laboratory Accreditation Program are currently approved by the Office of Management and Budget under control number 0693-0003. Notwithstanding any other provision of the law, no person is required to respond to, nor shall any person be subject to a penalty for failure to comply with a collection of information unless it displays a currently valid OMB Control Number.

Executive Order 12866

This action has been determined to be not significant under Executive Order 12866.

Dated: July 22, 2004.
Hratch G. Semerjian,
Deputy Director.

[FR Doc. 04-17103 Filed 7-27-04; 8:45 am]

BILLING CODE 3510-13-P